DEPARTMENT OF ENERGY

Agency Information Collection Extension

AGENCY: U.S. Department of Energy.

ACTION: Notice and request for OMB review and comment.

SUMMARY: The Department of Energy (DOE) has submitted an information collection request to OMB for extension under the provisions of the Paperwork Reduction Act of 1995. The information collection requests a three-year extension of its Labor Relations Report collection. The collection requests information from the Department of Energy Management and Operation (M&O) and Facilities Management Contractors for contract administration, management oversight, and cost control. The information collection will assist the Department in evaluating the implementation of the contractors' work force collective bargaining agreements, and apprise the Department of significant labor-management developments at DOE contractor sites. This information is used to ensure that Department contractors maintain good labor relations and retain a workforce in accordance with the terms of their contract and in compliance with statutory and regulatory requirements as identified by contract.

DATES: Comments regarding this collection must be received on or before August 23, 2018. If you anticipate that you will be submitting comments, but find it difficult to do so within the period of time allowed by this notice, please advise the OMB Desk Officer of your intention to make a submission as soon as possible. The Desk Officer may be telephoned at (202) 395-4650.

ADDRESSES: Written comments should be sent to the: DOE Desk Officer, Office of Information and Regulatory Affairs, Office of Management and Budget, New Executive Office Building, Room 10102, 735 17th Street NW, Washington, DC 20503.

And to: John M. Sullivan, GC-63, U.S. Department of Energy, 1000 Independence Avenue SW, Washington, DC 20585, Or by fax at (202) 586-0971; or by email to john.m.sullivan@hq.doe.gov.

FOR FURTHER INFORMATION CONTACT: Requests for additional information or copies of the information collection instrument and instructions should be directed to: John M. Sullivan, Attorney-Advisor (Labor), GC-63, U.S. Department of Energy, 1000 Independence Avenue SW, Washington, DC 20585, or by fax at (202) 586-0971 or by email to john.m.sullivan@hq.doe.gov.

SUPPLEMENTARY INFORMATION: This information collection request contains: (1) OMB No.: 1910-5143; (2) Information Collection Request Title: Labor Relations Report; (3) Type of Request: Renewal; (4) Purpose: The proposed collection will request information from the Department of Energy M&O and Facilities Management Contractors for contract administration, management oversight, and cost control. This information is used to ensure that Department contractors maintain good labor relations and retain a workforce in accordance with the terms of their contract and in compliance with statutory and regulatory requirements as identified by contract. The respondents are Department M&O and Facility Management Contractors; (5) Annual Estimated Number of Respondents: 35; (6) Annual Estimated Number of Total Responses: 35; (7) Annual Estimated Number of Burden Hours: 1.84 per respondent for total of 64.4 per year; (8) Annual Estimated Reporting and Recordkeeping Cost Burden: $3,316.60.

Statutory Authority: 42 U.S.C. 7254, 7256.

Issued in Washington, DC, on: July 16, 2018.
Jean S. Stucky,
Assistant General Counsel for Contractor Human Resources, Office of the General Counsel.

[FR Doc. 2018-15803 Filed 7-23-18; 8:45 am]

BILLING CODE 6450-01-P